DEPARTMENT OF ENERGY

Federal Energy Regulatory Commission

[IC06-423-001, FERC 423]

Commission Information Collection Activities, Proposed Collection; Comment Request; Extension

February 27, 2007.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received comments from four entities in response to an earlier Federal Register notice of September 22, 2006 (71 FR 55454-55455) and has provided responses to the commenters in its submission to OMB. Copies of the submission were also submitted to the commenters.

DATES: Comments on the collection of information are due by April 9, 2007.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies, of such comments should be submitted to the Secretary of the Commission, Federal Energy Regulatory Commission, 888 First Street, NE., Washington, DC 20426 and should refer to Docket No. IC06-423-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgment to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC 423 “Monthly Report of Cost and Quality of Fuels for Electric Plants”.

2. Sponsor: Federal Energy Regulatory Commission.

3. Control No.: 1902-0024.

The Commission is now requesting that OMB approve and extend the expiration date for an additional three years with no changes to the existing collection. The information filed with the Commission is mandatory.

4. Necessity of the Collection of Information: Submission of the information is necessary for the Commission to carry out its responsibilities in implementing the statutory provisions of sections 205 (a) and (e); (2) for use in a broad range of fuel cost and purchase practice issues rising from electric utility rate cases; (3) to detect abnormally high fuel costs in utility fuel purchases indicative of affiliate preference at the cost of the consumer; (4) in conjunction with other data, to identify potential out-of-merit plant dispatches carried out by system operators and (5) in conjunction with bid data, provides an indication of market efficiency by providing one of the key components of electricity generation cost.

Other Federal and State agencies, such as the Energy Information Administration and the Environmental Protection Agency, as well as private interest groups, electric utilities and the public use this timely data: (1) To compare each fuel type by quality determinants, in the study of developments in fuel supply which may affect the reliability of electric service, (2) in environmental improvement programs for the different air quality control regions in the United States and (3) for use in analyses of energy and fuel supply impacts on the cost of electric power.

The Commission implements these filing requirements in the Code of Federal Regulations (CFR) under 18 CFR 141.61.

5. Respondent Description: The respondent universe currently comprises 569 companies (on average) subject to the Commission's jurisdiction.

6. Estimated Burden: 6,828 total hours, 569 respondents (average), 12 responses per respondent, and 1 hour per response (average).

7. Estimated Cost Burden to respondents: 6,828 hours/2080 hours per years × $117,321 per year = $385,129. The cost per respondent is equal to $677.

Statutory Authority: Statutory provisions of sections 205 (a) and (e) of the Federal Power Act, 16 U.S.C. 824d.

Magalie R. Salas,
Secretary.

[FR Doc. E7-3966 Filed 3-6-07; 8:45 am]

BILLING CODE 6717-01-P